DEPARTMENT OF AGRICULTURE

Natural Resources Conservation Service

Nutrient Budgeting Tool: Notice Inviting Applications for New Awards for Fiscal Year (FY) 2001

AGENCY: Natural Resources Conservation Service, USDA

ACTION: Announcement of availability of funds and request for applications for a Cooperative Agreement for the development of a farm nutrient budgeting tool that addresses manure, organic by-products, and commercial fertilizers.

SUMMARY: The Natural Resources Conservation Service (NRCS) announces the availability of FY 2001 funds under the Conservation Technical Assistance program. Applications are being solicited for a Cooperative Agreement to develop a farm nutrient budgeting tool that addresses manure, organic by-products, and commercial fertilizers. Funding for this agreement is authorized by Section 714 of the FY 2001 Agricultural Appropriations Act, Public Law 106-387. Animal Feeding Operations (AFO) has come under scrutiny due to the potential adverse impact AFO can have on water quality if not managed properly. AFO operators are developing nutrient management plans to address the use of commercial fertilizers, manure, and other organic by-products for crop production which minimizes adverse impact on water quality. Due to the technical complexities involved in developing nutrient management plans, a simplified approach needs to be developed that will allow AFO operators to explore science-based planning alternatives.

Eligible Applicants: States and public or non-profit agencies and organizations, including Indian Tribes and institutions of higher education.

Date Applications Available: August 9, 2001.

Deadline for Submission of Applications: August 30, 2001.

Deadline for Inter-Governmental Review: September 10, 2001.

Size of Award: $100,000.

Project Period: Date of award through September 30, 2002.

Page Limit: Application narrative (Part III of the application) is where the applicant addresses the selection criteria which reviewers use to evaluate your application. You must limit Part III to the equivalent of no more than 4 pages, using the following standards:

1. A page is 8.5 inches by 11 inches; one side only, with 1-inch margins at the top, bottom, and one side.

2. Use a font that is 12-point or larger, or no smaller than 10-point (characters per inch). The page limit does not apply to Part I, the cover sheet; Part II, the budget section, including the narrative budget justification; Part IV, the assurances and certifications; or the one-page abstract, the resumes, the bibliography, or the letters of support. In addition to the narrative supporting, information in relation to the selection criteria, which is readable, executable from a CD-ROM, or located on a web site, will be allowed. Furthermore, the information will not be counted against the four-page limitation.

An application will be rejected if Part III does not comply with the page limit restrictions or the minimum font size.

Applicable Regulations: The Department of Agriculture, Office of the Chief Financial Officer, regulations in 7 CFR parts 3015, 3019, and 3052.

Selection Criteria: In evaluating an application for an award, NRCS will take into account the degree to which the proposal addresses:

1. The development of nitrogen, phosphorus, and potassium nutrient budgets at the farm level for manure, organic by-products and commercial fertilizers; land grant university fertilizer requirements; and determination of manure nutrients generated on-farm for each major animal sector. (40)

2. The functionality, ease of use, and the comprehensiveness of documentation provided by the proposed tool. (40)

3. The qualifications, knowledge, and experience of individuals identified in the proposal as they relate to nutrient management and science-based tool development; and the capability of proposed staffing to complete the proposal within the period of the cooperative agreement.

The maximum score for all the above criteria is 100 points.

NRCS reserves the right to negotiate with the Project Director and/or the submitting entity regarding project revisions (e.g. reductions in scope of work), funding level, or period of support prior to award. A proposal may be withdrawn at anytime before a final funding decision is made. A copy of each proposal that is not selected for funding (including those that are withdrawn) will be retained by NRCS for one year.

Programmatic Contact: For additional information on the program, please contact: Mr. Dan Meyer, Department of Agriculture, Natural Resources Conservation Service at (301) 504-2226 or by e-mail at dan.meyer@usda.gov.

For Applications Contact: Sheila Leonard, Department of Agriculture, Natural Resources Conservation Service, P.O. Box 2890, Room 5220 South Building, Washington, D.C. 20013-2890. Telephone: (202) 720-2604, FAX: (202) 720-7149.

To file a complaint of discrimination to USDA, write USDA Director, Office of Civil Rights, Room 326-W, Whitten Building, 14th and Independence Avenue, SW, Washington, DC 20250-9410, or call (202) 720-5964 (voice and TDD).

USDA is an equal opportunity provider and employer.

Signed in Washington, D.C., on August 10, 2001.
Pearlie S. Reed,
Chief, Natural Resource Conservation Service.

[FR Doc. 01-20828 Filed 8-16-01; 8:45 am]

BILLING CODE 3410-16-P